DEPARTMENT OF DEFENSE

Department of the Army

Notice of Availability for Exclusive, Non-Exclusive, or Partially-Exclusive Licensing of U.S. Inventions

AGENCY: Department of the Army, DoD.

ACTION: Notice.

SUMMARY: Announcement is made of the availability for licensing of the invention set forth in U.S. Patent No. 7,799,536, which issued on September 21, 2010, entitled “Endothelial-Monocyte Activating Polypeptide II, a Biomarker for Use in Diagnosis of Brain Injury,” and U.S. Patent Application Serial No. 12/806,725, entitled “Endothelial-Monocyte Avtivation Polypeptide II, a Biomarker for Use in Diagnosis and Treatment of Brain Injury,” filed August 19, 2010. The United States Government, as represented by the Secretary of the Army, has rights to these inventions.

ADDRESSES: Commander, U.S. Army Medical Research and Materiel Command, ATTN: Command Judge Advocate, MCMR-JA, 504 Scott Street, Fort Detrick, Frederick, MD 21702-5012.

FOR FURTHER INFORMATION CONTACT: For patent issues, Ms. Elizabeth Arwine, Patent Attorney, (301) 619-7808. For licensing issues, Dr. Paul Mele, Office of Research and Technology Applications (ORTA), (301) 619-6664, both at telefax (301) 619-5034.

SUPPLEMENTARY INFORMATION: The inventions relate to the use of a polypeptide, Endothelial-monocyte activating polypeptide II (EMAP-II) and/or p43/endothelial monocyte- activating polypeptide II (p43/EMAP-II) as a biomarker to determine the presence and type of brain injury.

Brenda S. Bowen,
Army Federal Register Liaison Officer.

[FR Doc. 2011-19205 Filed 7-28-11; 8:45 am]

BILLING CODE 3710-08-P